JUDICIAL CONFERENCE OF THE UNITED STATES

Hearing of the Judicial Conference Advisory Committees on Rules of: Appellate, Bankruptcy, Civil, and Criminal Procedure

AGENCY: Judicial Conference of the United States, Advisory Committees on Rules of Appellate, Bankruptcy, Civil, and Criminal Procedure.

ACTION: Notice of cancellation of open hearings.

SUMMARY: The public hearings on proposed amendments to the Federal Rules of Appellate, Bankruptcy, Civil, and Criminal Rules, scheduled for January 16, 2008, in Pasadena, California; Criminal Rules, scheduled for January 18, 2008, in Washington, DC; Bankruptcy Rules, scheduled for January 25, 2008, in Washington, DC; Civil Rules, scheduled for January 28, 2008, in Washington, DC; and Appellate Rules, scheduled for February 1, 2008, in New Orleans, Louisiana, have been canceled. [Original notice of hearings appeared in the Federal Register of November 1, 2007.]

FOR FURTHER INFORMATION CONTACT: John K. Rabiej, Chief, Rules Committee Support Office, Administrative Office of the United State Courts, Washington, DC 20544, telephone (202) 502-1820.

Dated: January 10, 2008.
John K. Rabiej,
Chief, Rules Committee Support Office.

[FR Doc. 08-143 Filed 1-16-08; 8:45 am]

BILLING CODE 2210-55-M